DEPARTMENT OF TRANSPORTATION

Federal Railroad Administration

[Docket Number FRA-2012-0091]

Petition for Waiver of Compliance

Under part 211 of title 49 Code of Federal Regulations (CFR), this document provides the public notice that by a letter dated November 22, 2019, Montana Rail Link, Inc. (MRL) petitioned the Federal Railroad Administration (FRA) to include MRL in a waiver of compliance from certain provisions of the Federal railroad safety regulations contained at 49 CFR part 232, Brake System Safety Standards for Freight and Other Non-Passenger Trains and Equipment. FRA assigned the petition Docket Number FRA-2012-0091.

Specifically, MRL seeks relief with respect to the application of 49 CFR 232.205(c)(1), Class I brake test-initial terminal inspection, and § 232.207(b)(1), Class IA brake tests—1,000-mile inspection, for trains operating in distributive power mode. MRL requests to extend the maximum allowable brake pipe air flow from the present regulatory limit of 60 cubic feet per minute (CFM) to 90 CFM for distributed power-equipped trains under specified operating conditions.

On March 26, 2013, FRA granted a pilot test waiver to the BNSF Railway Company for these same provisions. Canadian National Railway and Canadian Pacific Railway were added as parties to the test waiver on November 21, 2014, and Union Pacific Railroad was added as a party on March 4, 2015. On May 3, 2017, FRA granted a change in status from a test waiver to a waiver of compliance, and on February 8, 2019, CSX Transportation, Inc. was added to the waiver. MRL requests to be a party to the same waiver. If granted, MRL would be subject to the same conditions as set forth in FRA's May 3, 2017 letter.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by January 27, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-26744 Filed 12-11-19; 8:45 am]

BILLING CODE 4910-06-P